DEPARTMENT OF TRANSPORTATION

Federal Aviation Administration

14 CFR Part 39

[Docket No. FAA-2020-0903; Project Identifier AD-2020-00957-T; Amendment 39-21454; AD 2021-05-11]

RIN 2120-AA64

Airworthiness Directives; The Boeing Company Airplanes

AGENCY: Federal Aviation Administration (FAA), DOT.

ACTION: Final rule.

SUMMARY: The FAA is superseding Airworthiness Directive (AD) 2017-26-10, which applied to certain The Boeing Company Model 757 airplanes. AD 2017-26-10 required deactivating the spoiler control module (SCM) relays and capping and stowing the associated wiring on certain airplanes. This AD requires repetitive operational tests of the spoiler inhibit function. For certain airplanes, this AD requires installing a new relay bracket assembly, making changes to the wire bundles for certain SCMs, installing new SCMs, measuring the clearance between a wire bundle and the top of the new relay bracket assembly, and applicable on-condition actions. For a certain other airplane, this AD requires changing certain wire bundles. This AD was prompted by reports of unwanted lateral oscillations during landing operations, and the development of wiring changes for certain SCMs, which will improve the lateral handling qualities of the airplane during approach and landing. The FAA is issuing this AD to address the unsafe condition on these products.

DATES: This AD is effective April 19, 2021.

The Director of the Federal Register approved the incorporation by reference of a certain publication listed in this AD as of April 19, 2021.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available at https://www.regulations.gov by searching for and locating Docket No. FAA-2020-0903.

Examining the AD Docket

You may examine the AD docket at https://www.regulations.gov by searching for and locating Docket No. FAA-2020-0903; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Katherine Venegas, Aerospace Engineer, Cabin Safety and Environmental Systems Section, FAA, Los Angeles ACO Branch, 3960 Paramount Boulevard, Lakewood, CA 90712-4137; phone: 562-627-5353; fax: 562-627-5210; email: Katherine.Venegas@faa.gov.

SUPPLEMENTARY INFORMATION:

Background

The FAA issued a notice of proposed rulemaking (NPRM) to amend 14 CFR part 39 to supersede AD 2017-26-10, Amendment 39-19141 (82 FR 61675, December 29, 2017) (AD 2017-26-10). AD 2017-26-10 applied to certain The Boeing Company Model 757 airplanes. The NPRM published in the Federal Register on October 13, 2020 (85 FR 64419). The NPRM was prompted by reports of unwanted lateral oscillations during landing operations, and the development of wiring changes for certain SCMs, which will improve the lateral handling qualities of the airplane during approach and landing. The NPRM proposed to require repetitive operational tests of the spoiler inhibit function. For certain airplanes, the NPRM proposed to require installing a new relay bracket assembly, making changes to the wire bundles for certain SCMs, installing new SCMs, measuring the clearance between a wire bundle and the top of the new relay bracket assembly, and applicable on-condition actions. For a certain other airplane, the NPRM proposed to require changing certain wire bundles. The FAA is issuing this AD to address unwanted lateral oscillations during landing operations, which could cause over-control of the airplane and subsequent lateral pilot induced oscillation, which could affect continued safe flight and landing.

Comments

The FAA gave the public the opportunity to participate in developing this AD. The following presents the comments received on the NPRM and the FAA's response to each comment.

Support for the NPRM

An anonymous commenter, FedEx Express, and United Airlines (UAL) stated their support for the NPRM. An additional comment from UAL is addressed below.

Effect of Winglets on Accomplishment of the Proposed Actions

Aviation Partners Boeing stated that the installation of winglets per Supplemental Type Certificate (STC) ST01518SE does not affect the accomplishment of the proposed actions.

The FAA agrees with the commenter that STC ST01518SE does not affect the ability to accomplish the actions required by this AD. The FAA has not changed this AD in this regard.

Request To Revise Certain Language in the NPRM

Boeing requested that the FAA revise certain language in the NPRM. Boeing stated that in the Discussion section of the NPRM, it suggested to revise the last sentence as follows: “The FAA issued AD 2017-26-10 to address a failure condition that can cause uncommanded spoiler movement resulting in loss of controllability of the airplane.” Boeing commented that the change is justified based on the original safety determination of Continued Operational Safety Program (COSP) 2017-0373.

Boeing also stated that in the Actions Since AD 2017-26-10 Was Issued section of the NPRM, it suggested that the FAA add the following sentence: “This change provides the equivalent lateral handling quality improvements during approach and landing as AD 2015-08-01, but with a new design implementation.” Boeing commented that the change is justified based on the mitigating design for COSP 2018-0094.

The FAA acknowledges the commenter's request and agrees the proposed wording provides clarity and more closely aligns with the COSP recommendations. However those sections are not carried over into this final rule. The FAA has not changed this AD in this regard.

Request To Use Later Revisions of the Service Information

UAL requested that the proposed AD be revised to allow for the use of later revisions of the service information in either paragraph (g) of the proposed AD (Required Actions) or in paragraph (h) of the proposed AD (Exceptions to Service Information Specifications).

The FAA disagrees with the commenter's request. The FAA may not in an AD refer to any document that does not yet exist. In general terms, the FAA is required by Office of the Federal Register (OFR) regulations for approval of materials incorporated by reference, as specified in 1 CFR 51.1(f), to either publish the service document contents as part of the actual AD language; or submit the service document to the OFR for approval as referenced material, in which case the FAA may only refer to such material in the text of an AD. The AD may refer to the service document only if the OFR approved it for incorporation by reference. See 1 CFR part 51.

To allow operators to use later revisions of the referenced document (issued after publication of the AD), either the FAA must revise the AD to reference specific later revisions, or operators must request approval to use later revisions as an alternative method of compliance with this AD under the provisions of paragraph (j) of this AD.

Clarification of Steps in the Service Information

Boeing contacted the FAA and stated that there is an error in Boeing Alert Requirements Bulletin 757-27A0158 RB, dated July 9, 2020, and that the service information would be revised. Boeing stated that the reason for the service information revision is that step 2 in the figure 4 table incorrectly states to drill six holes, while the graphic in figure 4 accurately shows to only drill two holes.

The FAA has added paragraph (h)(2) of this AD to state, “Where Boeing Alert Requirements Bulletin 757-27A0158 RB, dated July 9, 2020, specifies in figure 4 (sheet 3 of 3), step 2, to drill a quantity of six holes, this AD requires drilling two holes.” The FAA has also moved the content of paragraph (h) of the proposed AD to paragraph (h)(1) of this AD.

Conclusion

The FAA reviewed the relevant data, considered the comments received, and determined that air safety and the public interest require adopting this AD with the changes described previously, and minor editorial changes. The FAA has determined that these minor changes:

• Are consistent with the intent that was proposed in the NPRM for addressing the unsafe condition; and

• Do not add any additional burden upon the public than was already proposed in the NPRM.

The FAA also determined that these changes will not increase the economic burden on any operator or increase the scope of this AD.

Related Service Information Under 1 CFR Part 51

The FAA reviewed Boeing Alert Requirements Bulletin 757-27A0158 RB, dated July 9, 2020. This service information describes procedures for installing a new relay bracket assembly, making changes to the wire bundles for the SCMs, installing new SCMs, measuring the clearance between a wire bundle and the top of new relay bracket assembly, changing certain wire bundles, repetitive operational tests of the spoiler inhibit function, and applicable on-condition actions. On-condition actions include installing a new protective sleeve, heat shrinkable to the wire bundle, doing a landing configurations warning module landing flap tests, and doing a system test for the SCMs. This service information is reasonably available because the interested parties have access to it through their normal course of business or by the means identified in the ADDRESSES section.

Costs of Compliance

The FAA estimates that this AD affects 626 airplanes of U.S. registry. The FAA estimates the following costs to comply with this AD:

Estimated Costs for Required Actions
Action | Labor cost | Parts cost | Cost per product | Cost on U.S. operators
Installations, measurement, and wire bundle changes (groups 1-22; 625 airplanes) | 105 work-hours × $85 per hour = $8,925 | Up to $7,230 | Up to $16,155 | Up to $10,096,875.
Wire bundle change (group 23; 1 airplane) | 9 work-hours × $85 per hour = $765 | $160 | $925 | $925.
Operational test (all groups; 626 airplanes) | 5 work-hours × $85 per hour = $425 per test cycle | $0 | $425 per test cycle | $266,050 per test cycle.

The FAA estimates the following costs to do any necessary on-condition actions that would be required. The FAA has no way of determining the number of aircraft that might need these on-condition actions:

Estimated Costs of On-Condition Costs
Action | Labor cost | Parts cost | Cost per product
Installation and testing | 8 work-hour × $85 per hour = $680 | * $ | $840
* The FAA has received no definitive data on the parts cost for the on-condition installation specified in this AD.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2017-26-10, Amendment 39-19141 (82 FR 61675, December 29, 2017); and

b. Adding the following new AD:

2021-05-11 The Boeing Company: Amendment 39-21454 ; Docket No. FAA-2020-0903; Project Identifier AD-2020-00957-T.

(a) Effective Date

This airworthiness directive (AD) is effective April 19, 2021.

(b) Affected ADs

This AD replaces AD 2017-26-10, Amendment 39-19141 (82 FR 61675, December 29, 2017).

(c) Applicability

This AD applies to The Boeing Company Model 757-200, -200PF, -200CB, and -300 series airplanes, certificated in any category, as identified in Boeing Alert Requirements Bulletin 757-27A0158 RB, dated July 9, 2020.

(d) Subject

Air Transport Association (ATA) of America Code 27, Flight controls.

(e) Unsafe Condition

This AD was prompted by reports of unwanted lateral oscillations during landing operations, and the development of wiring changes for certain spoiler control modules (SCMs), which will improve the lateral handling qualities of the airplane during approach and landing. The FAA is issuing this AD to address unwanted lateral oscillations during landing operations, which could cause over-control of the airplane and subsequent lateral pilot induced oscillation, which could affect continued safe flight and landing.

(f) Compliance

Comply with this AD within the compliance times specified, unless already done.

(g) Required Actions

Except as specified by paragraph (h) of this AD: At the applicable times specified in the “Compliance” paragraph of Boeing Alert Requirements Bulletin 757-27A0158 RB, dated July 9, 2020, do all applicable actions identified in, and in accordance with, the Accomplishment Instructions of Boeing Alert Requirements Bulletin 757-27A0158 RB, dated July 9, 2020.

Note 1 to paragraph (g): Guidance for accomplishing the actions required by this AD can be found in Boeing Alert Service Bulletin 757-27A0158, dated July 9, 2020, which is referred to in Boeing Alert Requirements Bulletin 757-27A0158 RB, dated July 9, 2020.

(h) Exceptions to Service Information Specifications

(1) Where Boeing Alert Requirements Bulletin 757-27A0158 RB, dated July 9, 2020, uses the phrase “the original issue date of the Requirements Bulletin 757-27A0158 RB,” this AD requires using “the effective date of this AD.”

(2) Where Boeing Alert Requirements Bulletin 757-27A0158 RB, dated July 9, 2020, specifies in figure 4 (sheet 3 of 3), step 2, to drill a quantity of six holes, this AD requires drilling two holes.

(i) Minimum Equipment List (MEL)

In the event that the spoiler inhibit function (SIF) system as modified by this AD is inoperable, an airplane may be operated as specified in the operator's existing FAA-approved MEL, provided the operator's existing FAA-approved MEL includes provisions that address the modified SIF system.

(j) Alternative Methods of Compliance (AMOCs)

(1) The Manager, Los Angeles ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (k)(1) of this AD. Information may be emailed to: 9-ANM-LAACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(4) AMOCs approved previously for AD 2017-26-10 are approved as AMOCs for the corresponding provisions of this AD.

(k) Related Information

(1) For more information about this AD, contact Katherine Venegas, Aerospace Engineer, Cabin Safety and Environmental Systems Section, FAA, Los Angeles ACO Branch, 3960 Paramount Boulevard, Lakewood, CA 90712-4137; phone: 562-627-5353; fax: 562-627-5210; email: Katherine.Venegas@faa.gov.

(2) Service information identified in this AD that is not incorporated by reference is available at the addresses specified in paragraphs (l)(3) and (4) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Requirements Bulletin 757-27A0158 RB, dated July 9, 2020.

(ii) [Reserved]

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued on February 21, 2021.
Ross Landes,
Deputy Director for Regulatory Operations, Compliance & Airworthiness Division, Aircraft Certification Service.

[FR Doc. 2021-05253 Filed 3-12-21; 8:45 am]

BILLING CODE 4910-13-P